DEPARTMENT OF ENERGY

Federal Energy Regulatory Commission

[Docket No. CP00-447-000]

Distrigas of Massachusetts LLC; Notice of Application

September 6, 2000.

Take notice that on August 28, 2000, Distrigas of Massachusetts LLC (DOMAC), Two Seaport Lane, Suite 1300, Boston, Massachusetts 02210-2019, filed a request with the Commission in Docket No. CP00-447-000 pursuant to Section 7(c) of the Natural Gas Act (NGA) for authorization to construct, install, operate, and maintain facilities at its liquefied natural gas (LNG) terminal in Everett, Massachusetts, to provide LNG sales service to an electric power generation plant under construction by Sithe Mystic Development LLC (Sithe) in Everett, Massachusetts, all as more fully set forth in the application which is open to the public for inspection. This application may be viewed on the web at http://www.ferc.fed.us/online/rims.htm (call 202-208-2222 for assistance).

DOMAC states that it would construct, install, operate, and maintain new vaporization equipment and associated systems needed to serve Sithe and to optimize the operating efficiency and productivity of the combined vaporization systems of the LNG plant. DOMAC also states that the proposed facilities would be located entirely within the existing boundaries of the LNG plant. Specifically, DOMAC proposes to install four submerged combustion vaporization units, each having a send-out capacity of 150,000 Mcf per day of natural gas. The vaporizers would be integrated into DOMAC's existing LNG plant with an arrangement of cross-connections and tie-ins. In addition to the vaporizers, cross-connections, and tie-ins, the proposed facilities would include new LNG tank pumps, LNG booster pumps, LNG impoundment and vapor control systems, equipment for treatment of stack effluent, equipment for automatic read-out and treatment of water discharge, a distributed control system, and odorization equipment, all as more fully set forth in the application. DOMAC further states that it would finance the estimated $35,040,000 construction cost for the proposed facilities entirely with funds on hand.

Any person desiring to be heard or to make any protest with reference to said application should on or before September 27, 2000, file with the Federal Energy Regulatory Commission, 888 First Street, NE, Washington, DC 20426, a motion to intervene or a protest in accordance with the requirements of the Commission's Rules of Practice and Procedure (18 CFR 385.214 or 385.211) and the Regulations under the NGA (18 CFR 157.10). All protests filed with the Commission will be considered by it in determining the appropriate action to be taken but will not serve to make the protestants parties to the proceeding. Any person wishing to become a party to a proceeding or to participate as a party in any hearing therein must file a motion to intervene in accordance with the Commission's Rules. Any questions regarding the application should be directed to Robert A. Nailling, Senior Counsel, Distrigas of Massachusetts LLC, Two Seaport Lane, Suite 1300, Boston, Massachusetts 02210-2019, telephone (617) 526-8300.

A person obtaining intervenor status will be placed on the service list maintained by the Secretary of the Commission and will receive copies of all documents filed by the applicant and by everyone of the intervenors. An intervenor can file for rehearing of any Commission order and can petition for court review of any such order. However, an intervenor must submit copies of comments or any filing it makes with the Commission to every other intervenor in the proceeding, as well as 14 copies with the Commission.

A person does not have to intervene, however, in order to have comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order at a federal court.

The Commission will consider all comments and concerns equally, whether filed by commenters or those requesting intervenor status.

Take further notice that, pursuant to the authority contained in and subject to the jurisdiction conferred upon the Federal Energy Regulatory Commission by Sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for DOMAC to appear or be represented at the hearing.

David P. Boergers,
Secretary.

[FR Doc. 00-23288 Filed 9-11-00; 8:45 am]

BILLING CODE 6717-01-M